FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than February 23, 2018.

A. Federal Reserve Bank of Richmond (Adam M. Drimer, Assistant Vice President) 701 East Byrd Street, Richmond, Virginia 23261-4528. Comments can also be sent electronically to Comments.applications@rich.frb.org.

1. H Bancorp, LLC, Irvine, California; to acquire 7.5 percent of the voting shares of Old Line Bancshares, Inc., Bowie, Maryland, and thereby indirectly acquire Old Line Bank, Bowie, Maryland.

B. Federal Reserve Bank of Chicago (Colette A. Fried, Assistant Vice President) 230 South LaSalle Street, Chicago, Illinois 60690-1414:

1. First Mid-Illinois Bancshares, Inc., Mattoon, Illinois; to acquire 100 percent of the voting shares of First BancTrust Corporation, Champaign, Illinois, and thereby indirectly acquire First Bank & Trust IL, Paris, Illinois.

C. Federal Reserve Bank of St. Louis (David L. Hubbard, Senior Manager) P.O. Box 442, St. Louis, Missouri 63166-2034. Comments can also be sent electronically to Comments.applications@stls.frb.org:

1. Saber Investments, Inc., Irvington, Kentucky; to become a bank holding company by acquiring voting shares of Bancorp of Lexington, Inc., Lexington, Kentucky and thereby indirectly acquire Bank of Lexington, Inc., Lexington, Kentucky.

2. First Breckinridge Bancshares, Inc. Irvington, Kentucky; to acquire through its subsidiary, Saber Investment Inc., 81 percent of the voting shares of Bancorp of Lexington, Inc, Lexington, Kentucky and thereby indirectly acquire Bank of Lexington, Inc., Lexington, Kentucky.

3. Meade Bancorp, Inc. Brandenburg, Kentucky; to acquire through its subsidiary, Saber Investment Inc., 19 percent of the voting shares of Bancorp of Lexington, Inc., Lexington, Kentucky, and thereby indirectly acquire Bank of Lexington, Inc., Lexington, Kentucky.

D. Federal Reserve Bank of Kansas City (Dennis Denney, Assistant Vice President) 1 Memorial Drive, Kansas City, Missouri 64198-0001:

1. Equity Bancshares, Inc., Wichita, Kansas; to acquire, through its subsidiary, Oz Merger Sub, Inc., Topeka, Kansas, 100 percent of the voting shares of Kansas Bank Corporation, and thereby acquire First National Bank of Liberal, both of Liberal, Kansas.

2. Equity Bancshares, Inc., Wichita, Kansas; to acquire, through its subsidiary, Abe Merger Sub, Inc., Jefferson City, Missouri, 100 percent of the voting shares of Adams Dairy Bancshares, Inc., and thereby acquire Adams Dairy Bank, both of Blue Springs, Missouri.

Board of Governors of the Federal Reserve System, January 24, 2018.
Ann E. Misback,
Secretary of the Board.

[FR Doc. 2018-01623 Filed 1-26-18; 8:45 am]

BILLING CODE P